DEPARTMENT OF HEALTH AND HUMAN SERVICES

Food and Drug Administration

[Docket No. FDA-2011-N-0238]

Preventive Controls for Registered Human Food and Animal Food/Feed Facilities; Reopening of the Comment Period

AGENCY: Food and Drug Administration, HHS.

ACTION: Notice; reopening of the comment period.

SUMMARY: The Food and Drug Administration (FDA) is reopening the comment period for the notice, published in the Federal Register of May 23, 2011 (76 FR 29767), entitled “Preventive Controls for Registered Human Food and Animal Food/Feed Facilities; Request for Comments.” In that document, FDA opened a docket and requested information about preventive controls and other practices used by facilities to identify and address hazards associated with specific types of food and specific processes. The Agency is taking this action in response to a request for an extension to allow interested persons additional time to submit comments.

DATES: Submit either electronic or written comments by December 20, 2011.

ADDRESSES: Submit electronic comments to http://www.regulations.gov. Submit written comments to the Division of Dockets Management (HFA-305), Food and Drug Administration, 5630 Fishers Lane, Rm. 1061, Rockville, MD 20852. All comments should be identified with the docket number found in brackets in the heading of this document.

FOR FURTHER INFORMATION CONTACT: Jenny Scott, Center for Food Safety and Applied Nutrition (HFS-300), Food and Drug Administration, 5100 Paint Branch Pkwy., College Park, MD 20740, (240) 402-2166; or Kim Young, Center for Veterinary Medicine (HFV-230), Food and Drug Administration, 7519 Standish Pl., Rockville, MD 20855, (240) 276-9207.

SUPPLEMENTARY INFORMATION:

I. Background

In the Federal Register of May 23, 2011 (76 FR 29767), FDA published a notice with a 90-day comment period to obtain information about preventive controls and other practices used by facilities to identify and address hazards associated with specific types of food and specific processes. Information obtained will assist FDA in the development of guidance on preventive controls for food facilities that manufacture, process, pack, or hold human food or animal food/feed (including pet food).

The Agency has received a request for an extension of the comment period for this notice. FDA has considered the request and is extending the comment period for the notice entitled “Preventive Controls for Registered Human Food and Animal Food/Feed Facilities; Request for Comments” until December 20, 2011. The Agency believes that this extension allows adequate time for interested persons to submit comments without significantly delaying action by the Agency.

II. Comments

Interested persons may submit to the Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

Dated: October 26, 2011.
Leslie Kux,
Acting Assistant Commissioner for Policy.

[FR Doc. 2011-28239 Filed 10-31-11; 8:45 am]

BILLING CODE 4160-01-P